DEPARTMENT OF COMMERCE

International Trade Administration

[A-552-802]

Frozen Warmwater Shrimp from Vietnam: Notice of Final Results of Antidumping Duty Changed Circumstances Reviews

AGENCY: Import Administration, International Trade Administration, Department of Commerce.

SUMMARY: On July 2, 2009, the Department of Commerce (“Department”) published a notice of preliminary results of changed circumstances reviews of the antidumping duty order on frozen warmwater shrimp from Vietnam, and determined that Bac Lieu Fisheries Joint Stock Company (“Bac Lieu JSC”), Cadovimex Seafood Import-Export and Processing Joint Stock Company (“Cadovimex Vietnam”), Soc Trang Seafood Joint Stock Company (“STAPIMEX JSC”), Thuan Phuoc Seafoods and Trading Corporation (“Thuan Phuoc JSC”), and UTXI Aquatic Products Processing Corporation (“UTXI Corp.”) (collectively, “Five CCR Requestors”) are successors-in-interest, respectively, to Bac Lieu Fisheries Company Limited (“Bac Lieu Limited”), Cai Doi Vam Seafood Import-Export Company (“Cadovimex”), Soc Trang Aquatic Products and General Import Export Company (“STAPIMEX”), Thuan Phuoc Seafoods and Trading Corporation (“Thuan Phuoc SOE”), and UTXI Aquatic Products Processing Company (“UTXI”) (collectively, “Original Companies”), and should be accorded the same antidumping duty treatment as their respective Original Companies. However, the Department preliminarily found that Can Tho Import Export Fishery Limited Company (“CAFISH”) is not the successor-in-interest to Can Tho Agricultural and Animal Products Import Export Company (“CATACO”) for purposes of determining the antidumping duty cash deposit rate.¹ For the final results, the Department continues to find that the Five CCR Requestors are the successors-in-interest to the respective Original Companies, and that CAFISH is not the successor-in-interest to CATACO.

¹ See Frozen Warmwater Shrimp from Vietnam: Notice of Preliminary Results of Antidumping Duty Changed Circumstances Reviews, 74 FR 31698 (July 2, 2009) (“Preliminary Results”).

EFFECTIVE DATE: August 20, 2009.

FOR FURTHER INFORMATION CONTACT: Jerry Huang or Scot T. Fullerton, AD/CVD Operations, Office 9, Import Administration, International Trade Administration, U.S. Department of Commerce, 1401 Constitution Avenue, NW, Washington, DC 20230; telephone: 202-482-4047 or 202-482-1386, respectively.

Background

On February 1, 2005, the Department published in the Federal Register the antidumping duty order for frozen warmwater shrimp from Vietnam. See Notice of Amended Final Determination of Sales at Less Than Fair Value and Antidumping Duty Order: Certain Frozen Warmwater Shrimp From the Socialist Republic of Vietnam, 70 FR 5152, 5154-55 (February 1, 2005) (“Order”). As part of the Order, Bac Lieu Limited, Cadovimex, STAPIMEX, Thuan Phuoc SOE, UTXI, and CATACO received a separate antidumping duty cash deposit rate of 4.57 percent. Id.

From January 26, 2009, to February 6, 2009, STAPIMEX JSC, UTXI Corp., Cadovimex-Vietnam, Thuan Phuoc JSC, Bac Lieu JSC, requested that the Department conduct changed circumstances reviews, claiming that the Five CCR Requestors are the successors-in-interest to the Original Companies. On March 18, 2009, the Department initiated changed circumstances reviews of the Five CCR Requestors. See Certain Frozen Warmwater Shrimp from Socialist Republic of Vietnam: Initiation of Changed Circumstances Reviews, 74 FR 11527 (March 18, 2009).

On March 13, 2009, CATACO requested that the Department conduct a changed circumstances review, claiming CAFISH is the successor-in-interest to CATACO. On April 14, 2009, the Department initiated the changed circumstances review. See Certain Frozen Warmwater Shrimp from the Socialist Republic of Vietnam: Initiation of Changed Circumstances Review, 74 FR 17156 (April 14, 2009).

On July 2, 2009, the Department published the preliminary results for the Five CCR Requestors and CATACO and invited interested parties to comment. See Preliminary Results. We received no comments or requests for a hearing from interested parties.

Scope of Order

The scope of this order includes certain warmwater shrimp and prawns, whether frozen, wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this investigation, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. Battered shrimp is a shrimp-based product that, when dusted in accordance with the definition of dusting above, is coated with a wet viscous layer containing egg and/or milk, and par-fried.

The products covered by this investigation are currently classified under the following HTS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTS subheadings are provided for convenience and for customs purposes only and are not dispositive, but rather the written description of the scope of this investigation is dispositive.

Final Results of Changed Circumstances Reviews

For the reasons stated in the preliminary results, and because the Department did not receive any comments on the preliminary results of these reviews, the Department continues to find that the Five CCR Requestors are the successors-in-interest to the Original Companies, respectively, and that CAFISH is not the successor-in-interest to CATACO, for purposes of the antidumping duty cash-deposit rate.³ Accordingly, the Five CCR Requestors should receive the same antidumping duty treatment as the respective Original Companies to which we found them to be the successor-in-interest. CAFISH remains subject to the Vietnam-wide entity rate.

³ On July 21, 2006, Bac Lieu JSC became the successor to Bac Lieu Limited; on February 1, 2005, Cadovimex Vietnam became the successor to Cadovimex; on June 1, 2006, STAPIMEX JSC became the successor to STAPIMEX; on June 29, 2007, Thuan Phuoc JSC became the successor to Thuan Phuoc SOE; on June 15, 2006, UTXI Corp. became the successor to UTXI. See Memo to File, from Jerry Huang, International Trade Compliance Analyst, through Scot T. Fullerton, Program Manager, AD/CVD Office 9, regarding Analysis Memo for Preliminary Determination of Antidumping Duty Changed Circumstances Reviews of Frozen Warmwater Shrimp from the Socialist Republic of Vietnam (June 25, 2009)

Notification

The Department will instruct U.S. Customs and Border Protection that the cash deposit determination from these changed circumstances reviews will apply to all shipments of the subject merchandise produced and exported by the Five CCR Requestors entered, or withdrawn from warehouse, for consumption on or after the date of publication of the final results of these changed circumstances reviews. This deposit rate shall remain in effect until publication of the final results of the next administrative review in which the Five CCR Requestors participate.

This notice also serves as a reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216.

Dated: August 14, 2009.
Carole Showers,
Acting Deputy Assistant Secretary for Policy and Negotiations.

[FR Doc. E9-20060 Filed 8-19-09; 8:45 am]

BILLING CODE 3510-DS-S